DEPARTMENT OF LABOR

Employment and Training Administration

Proposed Collection of the ETA 205, Preliminary Estimates of Average Employer Contribution Rates; Comment Request

ACTION: Notice.

SUMMARY: The Department of Labor, as part of its continuing effort to reduce paperwork and respondent burden conducts a preclearance consultation program to provide the general public and Federal agencies with an opportunity to comment on a proposed continuance for a collection of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed extension of the ETA 205, Preliminary Estimates of Average Employer Contribution Rates. A copy of the proposed information collection request (ICR) can be obtained by contacting the office listed below in the addresses section of this notice.

DATES: Written comments must be submitted to the office listed in the ADDRESSES section below on or before October 28, 2003.

ADDRESSES: Thomas Stengle, Office of Workforce Security, Employment and Training Administration, U.S. Department of Labor, Room S-4231, 200 Constitution Avenue, NW., Washington, DC 20210; telephone number (202) 693-2991; fax: (202) 693-3229 (these are not toll-free numbers) or e-mail stengle.thomas@dol.gov.

SUPPLEMENTARY INFORMATION:

I. Background

The ETA 205 reports preliminary information on the taxation efforts in States relative to taxable and total wages and allows for comparison among states. The information is used for projecting unemployment insurance tax revenues for the Federal budget process as well as for actuarial analyses of the Unemployment Trust Fund. The data is published in several forms and is often requested by data users. In addition, this report helps to fulfill two statutory requirements. Section 3302(d)(7) of the Federal Unemployment Tax Act (FUTA) requires the Secretary of Labor to notify “the Secretary of the Treasury before June 1 of each year, on the basis of a report furnished by such state to the Secretary of Labor before May 1 of such year” of the difference between the average tax rate in a state and the 2.7 percent (i.e. section 3302(c)(2)(B) or (C)). These differences are used to calculate the loss of FUTA offset credit for borrowing states. In addition, the tax schedules are used to assure that states are in compliance with provisions of the Tax Equity and Fiscal Responsibility Act (Pub. L. 97-248), section 281.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension.

Agency: Employment and Training Administration.

Title: Preliminary Estimates of Average Employer Contribution Rates.

OMB Number: 1205-0228.

Agency Number: ETA.

Affected Public: State Governments.

Cite/Reference/Form/etc: ETA 205.

Total Respondents: 53.

Frequency: Annual.

Total Responses: 53.

Average Time per Response: 15 minutes.

Estimated Total Burden Hours: 14.

Total Burden Cost (capital/startup): $0.00.

Comments submitted in response to this comment request will be summarized and/or included in the request for Office of Management and Budget approval of the information collection request; they will also become a matter of public record.

Dated: August 21, 2003.
Cheryl Atkinson,
Administrator, Office of Workforce Security.

[FR Doc. 03-22128 Filed 8-28-03; 8:45 am]

BILLING CODE 4510-30-P